DEPARTMENT OF THE INTERIOR

National Park Service

[Account Number: 1843-SZM]

Paterson Great Falls National Historical Park

AGENCY: National Park Service, Interior.

ACTION: Notice.

SUMMARY: As authorized by Section 7001 of the Omnibus Public Land Management Act of 2009, Public Law 111-11 (codified at 16 U.S.C. 410lll), the National Park Service announces that the Secretary of the Interior (Secretary) has established, in the State of New Jersey, Paterson Great Falls National Historical Park as a unit of the National Park System.

FOR FURTHER INFORMATION CONTACT: Gay Vietzke, Deputy Regional Director Park Operations, Northeast Regional Office, at (215) 597-4941.

SUPPLEMENTARY INFORMATION: Section 7001 of the Omnibus Public Land Management Act of 2009 (Pub. L. 111-11) includes a specific provision relating to establishment of this unit of the National Park System as follows:

(b) PATERSON GREAT FALLS NATIONAL HISTORICAL PARK.—

(1) ESTABLISHMENT.—

(A) IN GENERAL.—Subject to subparagraph (B), there is established in the State a unit of the National Park System to be known as the “Paterson Great Falls National Historical Park”.

(B) CONDITIONS FOR ESTABLISHMENT.—The Park shall not be established until the date on which the Secretary determines that—

(i)(I) the Secretary has acquired sufficient land or an interest in land within the boundary of the Park to constitute a manageable unit; or

(II) the State or City, as appropriate, has entered into a written agreement with the Secretary to donate—

(aa) the Great Falls State Park, including facilities for Park administration and visitor services; or

(bb) any portion of the Great Falls State Park agreed to between the Secretary and the State or City; and

(ii) the Secretary has entered into a written agreement with the State, City, or other public entity, as appropriate, providing that—

(I) land owned by the State, City, or other public entity within the Historic District will be managed consistent with this section; and

(II) future uses of land within the Historic District will be compatible with the designation of the Park.

On November 7, 2011, the Secretary of the Interior, the Mayor of Paterson, New Jersey, and the Chairman of the Paterson Municipal Utilities Authority signed a written agreement specifying the donation of lands and general provisions for the management and uses of lands within the Historic District. The agreement includes language supporting the partners' commitment to completing a General Management Plan (GMP) for the park within three years and guidelines for general operation of the park until the GMP is completed. With the signing of this agreement by the Secretary, the site to be known as the “Paterson Great Falls National Historical Park,” was established as a unit of the National Park System, effective November 7, 2011, and subject to all laws, regulations, and policies pertaining to such units.

Dated: November 9, 2011.
Margaret G. O'Dell,
Deputy Director, Operations.

[FR Doc. 2011-29947 Filed 11-18-11; 8:45 am]

BILLING CODE 4312-51-P